DEPARTMENT OF TRANSPORTATION

Office of the Secretary

14 CFR Part 382

[Docket No. OST-2005-22298]

RIN 2105-AC29

Nondiscrimination on the Basis of Disability in Air Travel—Medical Oxygen and Portable Respiration Assistive Devices

AGENCY: Office of the Secretary (OST), U.S. Department of Transportation (DOT).

ACTION: Extension of comment period on proposed rule.

SUMMARY: The Department is extending through January 30, 2006, the period for interested persons to submit comments to its proposed rule on medical oxygen and portable respiration assistive devices.

DATES: Comments must be received by January 30, 2006. Comments received after this date will be considered to the extent practicable.

ADDRESSES: You may submit comments identified by the docket number [OST-2005-22298] by any of the following methods: (1) Federal eRulemaking Portal: http://www.regulations.gov (follow the instructions for submitting comments); (2) Web site: http://dms.dot.gov (follow the instructions for submitting comments on the DOT electronic docket site); (3) Fax: 1-202-493-2251; (4) Mail: Docket Management System; U.S. Department of Transportation, 400 Seventh Street, SW., Nassif Building, Room PL-401, Washington, DC 20590-001; or (5) Hand Delivery: To the Docket Management System; Room PL-401 on the plaza level of the Nassif Building, 400 Seventh Street, SW., Washington, DC between 9 a.m. and 5 p.m., Monday through Friday, except Federal Holidays.

You must include the agency name and docket number [OST-2005-22298] or the Regulatory Identification Number (RIN) for this notice at the beginning of your comment. Note that all comments received will be posted without change to http://dms.dot.gov including any personal information provided. Please see the Privacy Act section of this document. You may view the public docket through the Internet at http://dms.dot.gov or in person at the Docket Management System office at the above address.

FOR FURTHER INFORMATION CONTACT: Blane A. Workie, Office of Assistant General Counsel for Aviation Enforcement and Proceedings, 400 7th Street, SW., Room 4116, Washington DC 29590. Phone: 202-366-9342. TTY: 202-366-0511. Fax: 202-366-7152. E-mail: blane.workie@dot.gov.

SUPPLEMENTARY INFORMATION: On September 7, 2005, the Department of Transportation (DOT or Department) issued a notice of proposed rulemaking (NPRM) that proposed to require airlines to provide in-flight medical oxygen without charge, to test certain respiratory assistive devices and to permit their use if safe. See 70 FR 53108. The NPRM would apply to certain U.S. and foreign air carriers operating to and from the U.S. The original comment closing date is November 7, 2005.

The Air Carrier Association of America (ACAA), the Air Transport Association (ATA), the National Air Carrier Association (NACA), and the Regional Airline Association (RAA) jointly requested an extension of the comment period to consider “the enormous technical, operational and cost issues raised by the multiple actions required by the NPRM.” They requested an extension of more than sixty days to January 30, 2006, at least partially because an extension of sixty days in this rulemaking would place the close of the comment period in the holiday season. This request was supported by comments from the International Air Transport Association (IATA), which further explained that IATA has begun the process of gathering comments from its in-flight, dangerous goods, passenger services, operations, medical and regulatory contacts but that gathering and collating such feedback is a significant task that requires time.

The Department concurs that an extension of the comment period is necessary to allow members of industry sufficient time to analyze the impact of the proposed rule and believes that this extension would result in more thorough comments to the docket than might otherwise be possible without delaying final action in the rulemaking proceeding. We do not anticipate the need for any further extensions. Accordingly, the Department finds that good cause exists to extend the comment period on the proposed rule from November 7, 2005, to January 30, 2006.

Issued in Washington, DC this 17th day of October, 2005, under authority assigned to me by 14 CFR 385.17(c).
Neil Eisner,
Assistant General Counsel for Regulation and Enforcement, U.S. Department of Transportation.

[FR Doc. 05-21078 Filed 10-20-05; 8:45 am]

BILLING CODE 4910-62-P